DEPARTMENT OF TRANSPORTATION

Federal Aviation Administration

14 CFR Part 39

[Docket No. 2003-CE-05-AD]

RIN 2120-AA64

Airworthiness Directives; SOCATA—Groupe AEROSPATIALE Models TB 9, TB 10, TB 20, TB 21, TB 200, TMB 700, Rallye 100S, Rallye 150T, Rallye 150ST, Rallye 235E, and Rallye 235C Airplanes

AGENCY: Federal Aviation Administration, DOT.

ACTION: Proposed rule; withdrawal.

SUMMARY: This document withdraws a notice of proposed rulemaking (NPRM) that would have applied to all SOCATA—Groupe AEROSPATIALE (SOCATA) Models TB 9, TB 10, TB 20, TB 21, TB 200, TMB 700, Rallye 100S, Rallye 150T, Rallye 150ST, Rallye 235E, and Rallye 235C airplanes. The proposed AD would have required you to replace certain safety belts and restraint systems. Comments received on the NPRM suggest that FAA withdraw the proposal and that FAA consider issuing a new NPRM to propose that you do similar actions on any aircraft that incorporates the affected seatbelts, not just the SOCATA airplanes. We agree and are withdrawing the NPRM.

ADDRESSES: You may look at information related to this action at FAA, Central Region, Office of the Regional Counsel, Attention: Rules Docket No. 2003-CE-05-AD, 901 Locust, Room 506, Kansas City, Missouri 64106, between 8 a.m. and 4 p.m., Monday through Friday, except holidays.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Action Has FAA Taken to Date?

We issued a proposal to amend part 39 of the Federal Aviation Regulations (14 CFR part 39) to include an AD that would apply to all SOCATA Models TB 9, TB 10, TB 20, TB 21, TB 200, TMB 700, Rallye 100S, Rallye 150T, Rallye 150ST, Rallye 235E, and Rallye 235C airplanes. This proposal was published in the Federal Register as a notice of proposed rulemaking (NPRM) on March 7, 2003 (68 FR 11015). The NPRM proposed to require you to replace certain safety belts and restraint systems.

Was the Public Invited To Comment?

The FAA invited interested persons to participate in the making of this amendment. We received 23 comments from 3 commenters on the proposed AD. The majority of the comments reflect the public's desire to have FAA withdraw the proposal and recommend that FAA consider issuing an NPRM to:

—Inspect certain safety belts and restraint systems that are installed in airplanes for defects and service life limits;

—Repair defective safety belts and restraint systems that have not reached service life limits; and

—Replace safety belts and restraint systems that have reached service life limits.

The commenters request that these actions apply to any aircraft that incorporates the affected seatbelts, not just the SOCATA airplanes.

The FAA's Analysis and Final Determination

Is There Additional Information Related to This Subject?

The following information applies to the subject of this AD Action:

—The Direction Générale de l'Aviation Civile (DGAC), which is the airworthiness authority for France, has issued French ADs Number 2002-104(AB), Revision 2; and Number 2002-105(AB) Revision 2;

—The above French ADs are equipment-related ADs and apply to all aircraft equipped with certain Anjou Aeronautique (ANJOU) (formerly TRW Repa S.A., formerly L'AIGLON) safety belts and restraint systems; and

—Aircraft that are equipped with the Anjou safety belts and restraint systems include small airplanes, transport airplanes, and helicopters.

What Is FAA's Final Determination on This Issue?

Based on this information, we have determined that we should withdraw the NPRM and initiate a separate AD action (NPRM) for certain ANJOU safety belts and restraint systems that are installed in aircraft.

Withdrawal of this NPRM does not prevent us from issuing another notice in the future, nor does it commit us to any future action.

Regulatory Impact

Does This AD Involve a Significant Rule or Regulatory Action?

Since this action only withdraws a proposed AD, it is not an AD and, therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, FAA withdraws the notice of proposed rulemaking, Docket No. 2003-CE-05-AD, which was published in the Federal Register on March 7, 2003 (68 FR 11015).

Issued in Kansas City, Missouri, on August 25, 2003.
Michael Gallagher,
Manager, Small Airplane Directorate, Aircraft Certification Service.

[FR Doc. 03-22258 Filed 8-29-03; 8:45 am]

BILLING CODE 4910-13-P